DEPARTMENT OF HEALTH AND HUMAN SERVICES

Centers for Disease Control and Prevention

[30Day-23-23FZ]

Agency Forms Undergoing Paperwork Reduction Act Review

In accordance with the Paperwork Reduction Act of 1995, the Centers for Disease Control and Prevention (CDC) has submitted the information collection request titled “Healthcare Response and Prevention Training Curriculum for Health Departments” to the Office of Management and Budget (OMB) for review and approval. CDC previously published a “Proposed Data Collection Submitted for Public Comment and Recommendations” notice on June 16, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Healthcare Response and Prevention Training Curriculum for Health Departments—New—National Center for Emerging and Zoonotic Infectious Diseases (NCEZID), Centers for Disease Control and Prevention (CDC).

Background and Brief Description

CDC funds Healthcare-Associated Infection and Antibiotic Resistance (HAI/AR) programs in 64 state, local and territorial health departments. Funding is awarded through the Epidemiology and Laboratory cooperative agreements (ELC). Funds are intended to provide critical resources to recipients in support of a broad range of healthcare infection prevention and control and epidemiologic surveillance activities to detect, monitor, mitigate, and prevent the spread of HAI/AR in healthcare settings. Recently, HAI/AR programs have experienced an increase in program size and scope through COVID-19 supplemental funds. To better support the growing programs, CDC has developed high-priority trainings requested by the health department programs with the goal of strengthening public health workforce capacity to prevent and respond to HAI/AR outbreaks in healthcare settings, including preventing the spread of SARS-CoV-2.

The proposed training evaluation will be used to assess whether the CDC-developed trainings are reaching the intended audience and achieving the intended goal of strengthening public health workforce capacity to prevent and respond to HAI/AR outbreaks, including COVID-19 at the individual trainee and program level. CDC requests OMB approval for an estimated 316 annual burden hours. There is no cost to respondents other than their time.

Estimated Annualized Burden Hours
Type of respondents | Form name | Number of respondents | Number of responses per respondent | Average burden per response (in hours)
Public Health Trainees | Registration | 600 | 2 | 5/60
Public Health Trainees | Pre-Test | 600 | 2 | 5/60
Public Health Trainees | Post-test | 600 | 2 | 5/60
HAI/AR Program Leads | Public Health program impact of trainings | 64 | 1 | 15/60

Jeffrey M. Zirger,
Lead, Information Collection Review Office, Office of Public Health Ethics and Regulations, Office of Science, Centers for Disease Control and Prevention.

[FR Doc. 2023-19066 Filed 9-1-23; 8:45 am]

BILLING CODE 4163-18-P